ENVIRONMENTAL PROTECTION AGENCY

[FRL-9993-62-OA]

Request for Nominations of Candidates to the EPA's Science Advisory Board (SAB) and SAB Standing Committees

AGENCY: Environmental Protection Agency (EPA).

ACTION: Notice.

SUMMARY: The U.S. Environmental Protection Agency (EPA) invites nominations of scientific experts from a diverse range of disciplines to be considered for appointment to the EPA Science Advisory Board (SAB) and four SAB committees described in this notice. Appointments will be announced by the Administrator and are anticipated to be filled by the start of Fiscal Year 2020 (October 2019).

DATES: Nominations should be submitted in time to arrive no later than June 24, 2019.

SUPPLEMENTARY INFORMATION:

Background: The SAB is a chartered Federal Advisory Committee, established in 1978 under the authority of the Environmental Research, Development and Demonstration Authorization Act (ERDDAA), codified at 42 U.S.C. 4365, to provide independent scientific and technical peer review, consultation, advice and recommendations to the EPA Administrator on the scientific bases for EPA's actions and programs. Members of the SAB constitute distinguished bodies of non-EPA scientists, engineers, economists, and behavioral scientists who are nationally and internationally recognized experts in their respective fields. Members are appointed by the EPA Administrator for a three-year term and serve as Special Government Employees who provide independent expert advice to the agency. Additional information about the SAB is available at http://www.epa.gov/sab.

Expertise Sought for the SAB: The chartered SAB provides strategic advice to the EPA Administrator on a variety of EPA science and research programs. All the work of SAB committees and panels is conducted under the auspices of the chartered SAB. The chartered SAB reviews all SAB committee and panel draft reports and determines whether they are appropriate to send to the EPA Administrator. The SAB Staff Office invites the nomination of experts to serve on the chartered SAB in the following scientific disciplines as they relate to human health and the environment: Analytical chemistry; benefit-cost analysis; causal inference; complex systems; ecological sciences and ecological assessment; economics; engineering; forestry geochemistry; health sciences; hydrology; hydrogeology; medicine; microbiology; modeling; pediatrics; public health; risk assessment; social, behavioral and decision sciences; statistics; toxicology; epidemiology; and uncertainty analysis.

The SAB Staff Office is especially interested in scientists in the disciplines described above who have knowledge and experience in air quality; agricultural sciences; atmospheric sciences; benefit-cost analysis; complex systems; drinking water; energy and the environment; epidemiological risk analyses; dose-response, exposure, and physiologically based pharmacokinetic (PBPK) modeling; water quality; water quantity and reuse; ecosystem services; community environmental health; sustainability; chemical safety; green chemistry; and waste management. For further information about the chartered SAB membership appointment process and schedule, please contact Dr. Thomas Armitage, DFO, by telephone at (202) 564-2155 or by email at armitage.thomas@epa.gov.

The SAB Staff Office is also seeking nominations of experts for possible vacancies on four SAB standing committees: The Agricultural Science Committee, the Chemical Assessment Advisory Committee; the Drinking Water Committee; and the Radiation Advisory Committee.

(1) The SAB Agricultural Science Committee (ASC) provides advice to the chartered SAB on matters that have been determined to have a significant direct impact on farming and agriculture-related industries. The SAB Staff Office invites the nomination of scientists with expertise in one or more of the following disciplines: Agricultural science, including agricultural economics and valuation of ecosystem goods and services; agricultural chemistry; agricultural engineering; agronomy and soil science; animal science; aquaculture science; biofuel engineering; biotechnology; crop science and phytopathology; environmental chemistry; forestry; and hydrology. For further information about the ASC membership appointment process and schedule, please contact Dr. Bryan Bloomer, DFO, by telephone at (202) 564-4222 or by email at bloomer.bryan@epa.gov.

(2) The SAB Chemical Assessment Advisory Committee (CAAC) provides advice through the chartered SAB regarding selected toxicological reviews of environmental chemicals. The SAB Staff Office invites the nomination of scientists with experience in chemical assessments and expertise in one or more of the following disciplines: Toxicology, including, developmental/reproductive toxicology, and inhalation toxicology; carcinogenesis; biostatistics; uncertainty analysis; epidemiology and risk assessment. For further information about the CAAC membership appointment process and schedule, please contact Dr. Suhair Shallal, DFO, by telephone at (202) 564-2057 or by email at shallal.suhair@epa.gov.

(3) The SAB Drinking Water Committee (DWC) provides advice on the scientific and technical aspects of EPA's national drinking water program. The SAB Staff Office is seeking nominations of experts with experience on drinking water issues. Members should have expertise in one or more of the following disciplines: Environmental engineering; epidemiology; microbiology; public health; toxicology; uncertainty analysis; and risk assessment. For further information about the DWC membership appointment process and schedule, please contact Dr. Bryan Bloomer, DFO, by telephone at (202) 564-4222 or by email at bloomer.bryan@epa.gov.

(4) The Radiation Advisory Committee (RAC) provides advice on radiation protection, radiation science, and radiation risk assessment. The SAB Staff Office invites the nomination of experts to serve on the RAC with demonstrated expertise in the following disciplines: Radiation carcinogenesis; radiochemistry; radiation dosimetry; radiation epidemiology; radiation exposure; radiation health and safety; radiological risk assessment; uncertainty analysis; and radionuclide fate and transport. For further information about the RAC membership appointment process and schedule, please contact Dr. Diana Wong, DFO, by telephone at (202) 564-2049 or by email at wong.diana-m@epa.gov.

Selection Criteria for the SAB and the SAB Committees Includes

—Demonstrated scientific credentials and disciplinary expertise in relevant fields;

—Willingness to commit time to the committee and demonstrated ability to work constructively and effectively on committees;

—Background and experiences that would help members contribute to the diversity of perspectives on the committee, e.g., geographical, social, cultural, educational backgrounds, professional affiliations; and other considerations; and

—For the committee as a whole, the collective breadth and depth of scientific expertise is considered.

As the SAB and its standing committees undertake specific advisory activities, the SAB Staff Office will consider two additional criteria for each new activity: Absence of financial conflicts of interest and absence of an appearance of a loss of impartiality.

How to Submit Nominations: Any interested person or organization may nominate qualified persons to be considered for appointment to these advisory committees. Individuals may self-nominate. Nominations should be submitted in electronic format (preferred) using the online nomination form under the “Nomination of Experts” category at the bottom of the SAB home page at http://www.epa.gov/sab. To be considered, all nominations should include the information requested below. EPA values and welcomes diversity. All qualified candidates are encouraged to apply regardless of gender, race, disability or ethnicity.

Nominators are asked to identify the specific committee for which nominees are to be considered. The following information should be provided on the nomination form: Contact information for the person making the nomination; contact information for the nominee; the disciplinary and specific areas of expertise of the nominee; the nominee's curriculum vitae; and a biographical sketch of the nominee indicating current position, educational background; research activities; sources of research funding for the last two years; and recent service on other national advisory committees or national professional organizations. To help the agency evaluate the effectiveness of its outreach efforts, please indicate how you learned of this nomination opportunity. Persons having questions about the nomination process or the public comment process described below, or who are unable to submit nominations through the SAB website, should contact the DFO for the committee, as identified above. The DFO will acknowledge receipt of nominations and in that acknowledgement, will invite the nominee to provide any additional information that the nominee feels would be useful in considering the nomination, such as availability to participate as a member of the committee; how the nominee's background, skills and experience would contribute to the diversity of the committee; and any questions the nominee has regarding membership. The names and biosketches of qualified nominees identified by respondents to this Federal Register notice, and any additional experts identified by the SAB Staff Office, will be posted in a List of Candidates on the SAB website at http://www.epa.gov/sab. Public comments on each List of Candidates will be accepted for 21 days from the date the list is posted. The public will be requested to provide relevant information or other documentation on nominees that the SAB Staff Office should consider in evaluating candidates.

Candidates invited to serve will be asked to submit the “Confidential Financial Disclosure Form for Special Government Employees Serving on Federal Advisory Committees at the U.S. Environmental Protection Agency” (EPA Form 3110-48). This confidential form allows EPA to determine whether there is a statutory conflict between that person's public responsibilities as a Special Government Employee and private interests and activities, or the appearance of a loss of impartiality, as defined by Federal regulation. The form may be viewed and downloaded through the “Ethics Requirements for Advisors” link on the SAB home page at http://www.epa.gov/sab. This form should not be submitted as part of a nomination.

Dated: May 3, 2019.
Khanna Johnston,
Deputy Director, EPA Science Advisory Board Staff Office.

[FR Doc. 2019-10819 Filed 5-22-19; 8:45 am]

BILLING CODE 6560-50-P